DEPARTMENT OF HEALTH AND HUMAN SERVICES

Office of the Secretary

[Document Identifier HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before March 24, 2015.

ADDRESSES: Submit your comments to Information.CollectionClearance@hhs.gov or by calling (202) 690-6162.

FOR FURTHER INFORMATION CONTACT: Information Collection Clearance Staff, Information.CollectionClearance@hhs.gov or (202) 690-6162.

SUPPLEMENTARY INFORMATION: When submitting comments or requesting information, please include the document identifier HHS-OS-0990-New-60D for reference.

Information Collection Request Title: Title X Sustainability Assessment Tool For Grantees and Service Sites

Abstract: The Office of Population Affairs within the Office of the Assistant Secretary for Health seeks to collect data from the Title X centers on efforts related to (1) assisting individuals in obtaining health insurance; (2) partnerships with primary care providers; (3) availability and use of electronic health records; (4) monitoring patient care quality; (5) factors affecting revenue sources; and (6) the way that sites conduct analyses to consider the cost of providing services.

Need and Proposed Use of the Information

The Title X Family Planning Program (“Title X program” or “program”) is the only Federal grant program dedicated solely to providing individuals with comprehensive family planning and related preventive health services (e.g., screening for breast and cervical cancer, sexually transmitted diseases (STDs), and human immunodeficiency virus [HIV]). By law, priority is given to persons from low-income families (Section 1006[c] of Title X of the Public Health Service Act, 42 U.S.C. 300). The Office of Population Affairs (OPA) within the Office of the Assistant Secretary for Health administers the Title X program.

The American health care system is experiencing unprecedented levels of change as a result of the Patient Protection and Affordable Care Act (ACA). The exact impact of these health system changes to Title X centers needs to be assessed in order to ensure the long term sustainability of the Title X network.

This data collection is necessary to explain trends in client volume, insurance status of clients and revenue sources for Title X centers (data already collected through the Family Planning Annual Report—FPAR). This data will be collected directly from individual centers in order to provide contextual information and explain national trends in FPAR data.

OPA will utilize these data in three main ways:

First, OPA needs to prepare grantees and Title X centers to respond to changes in the health system. As more individuals obtain health insurance, OPA needs to understand how individual Title X centers may be affected. Second, OPA invests in national training centers that are charged with providing national training, resources and technical assistance to grantees. Data collected from this effort will be used to inform the work of the training centers so they can better support the Title X grantees. Third, this data will help OPA better understand challenges affecting Title X centers in order to better work with HHS entities and national stakeholders to provide resources to Title X centers. Data will be collected through an online data collection tool directly from grantees and from Title X centers.

Likely Respondents: This annual reporting requirement is centers that receive funding (either directly from OPA or through a subrecipient or grantee agency) for family planning services authorized and funded by the Title X Family Planning Program [“Population Research and Voluntary Family Planning Programs” (Pub. L. 91-572)], which was enacted in 1970 as Title X of the Public Health Service Act (Section 1001 of Title X of the Public Health Service Act, 42 United States Code [U.S.C.] 300).

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

Based on some pilot work, the total annual burden hours estimated for this ICR are summarized in the table below.

Total Estimated Annualized Burden—Hours
Type of respondent | Form name | Number of respondents | Number of responses per respondent | Average annualized burden per response (hours) | Annualized total burden (hours)
Grantees | Sustainability Assessment—Grantees | 92 | 1 | 0.66 | 60.72
Service Sites | Sustainability Assessment—Sites | 4,168 | 1 | 0.66 | 2,750.88
Totals |  | 4,260 |  |  | 2811.60

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2015-01099 Filed 1-22-15; 8:45 am]

BILLING CODE 4150-48-P